DEPARTMENT OF DEFENSE

Office of the Secretary

[Transmittal No. 25-05]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-05 and Policy Justification.

Dated: January 26, 2026.
Stephanie J. Bost,
Alternate OSD Federal Register Liaison Officer, Department of Defense.

BILLING CODE 6001-FR-P

BILLING CODE 6001-FR-C

Transmittal No. 25-05

Notice of Proposed Issuance of Letter of Offer Pursuant to Section 36(b)(1) of the Arms Export Control Act, as amended

(i) Prospective Purchaser: Government of Iraq

(ii) Total Estimated Value:

Major Defense Equipment * | $ 0
Other | $100 million
TOTAL | $100 million

Funding Source: National Funds

(iii) Description and Quantity or Quantities of Articles or Services under Consideration for Purchase: Foreign Military Sales (FMS) case IQ-B-URS was below congressional notification threshold at $41 million ($0 in MDE) and included Radio Access Points (RAP), handheld dismounted radios; radio base station systems; radio repeater systems; very high frequency vehicular radio systems; WiMax systems; intermediate power amplifier base station systems; intermediate power amplifier vehicular systems; Very Small Aperture Terminals; installation materials and kits; routers; switches; shelters; solar equipment; cameras and spare parts; personnel training and training equipment; studies and surveys; Contractor Logistics Support; United States (U.S.) Government and contractor engineering, technical, and logistics support services; and other related elements of logistics and program support. The Government of Iraq has requested that the case be amended to include additional repeater systems and installation kits; high-capacity line of sight systems; RAP infrastructure (shelter, solar, camera, and air conditioner); and IT components (router, switch, and rack) to support a Country Wide Repeater System. This amendment will cause the case to exceed the notification threshold and thus notification of the entire program is required. The above notification requirements are combined as follows:

Major Defense Equipment (MDE):

None

Non-Major Defense Equipment:

The following non-MDE items will be included: Radio Access Points (RAP), handheld dismounted radios; radio base station systems; radio repeater systems; very high frequency vehicular radio systems; WiMax systems; intermediate power amplifier base station systems; intermediate power amplifier vehicular systems; Very Small Aperture Terminals; installation materials and kits; routers; switches; shelters; solar equipment; cameras and spare parts; personnel training and training equipment; studies and surveys; Contractor Logistics Support; U.S. Government and contractor engineering, technical, and logistics support services; and other related elements of logistics and program support; repeater systems and installation kits; high-capacity line of sight systems; RAP infrastructure (shelter, solar, camera, and air conditioner); and IT components (router, switch, and rack) to support a Country Wide Repeater System; and other related elements of logistics and program support.

(iv) Military Department: Army (IQ-B-URS)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: November 13, 2025

* as defined in Section 47(6) of the Arms Export Control Act.

POLICY JUSTIFICATION

Iraq—Country Wide Repeater System

The Government of Iraq has requested to buy Radio Access Points (RAP), handheld dismounted radios; radio base station systems; radio repeater systems; very high frequency vehicular radio systems; WiMax systems; intermediate power amplifier base station systems; intermediate power amplifier vehicular systems; Very Small Aperture Terminals; installation materials and kits; routers; switches; shelters; solar equipment; cameras and spare parts; personnel training and training equipment; studies and surveys; Contractor Logistics Support; U.S. Government and contractor engineering, technical, and logistics support services; and other related elements of logistics and program support; repeater systems and installation kits; high-capacity line of sight systems; RAP infrastructure (shelter, solar, camera, and air conditioner); and IT components (router, switch, and rack) to support a Country Wide Repeater System; and other related elements of logistics and program support. The estimated total cost is $100 million.

This proposed sale will support the foreign policy and national security of the U.S. by helping to improve the security of a strategic partner.

The proposed sale will improve Iraq's critical command-and-control capabilities, bolstering its defense against regional threats. This strengthens Iraq's ability to protect its borders, energy infrastructure, and residents, while advancing U.S. security interests. Iraq will have no difficulty absorbing these articles and services into its armed forces.

The proposed sale of this equipment and support will not alter the basic military balance in the region.

The principal contractor will be L3Harris Corporation, located in Rochester, NY. At this time, the U.S. government is not aware of any offset agreement proposed in connection with this potential sale. Any offset agreement will be defined in negotiations between the purchaser and the contractor.

Implementation of this proposed sale will require the assignment of two U.S. government and five U.S. contractor representatives to Iraq for a duration of five years to support quarterly program management reviews, provide engineering consulting and technical assessments for equipment upgrades and growth of the CWRS, and to conduct in-country training.

There will be no adverse impact on U.S. defense readiness as a result of this proposed sale.

[FR Doc. 2026-01723 Filed 1-28-26; 8:45 am]

BILLING CODE 6001-FR-P